DEPARTMENT OF COMMERCE

National Oceanic and Atmospheric Administration

[I.D. 111401E]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Research Steering Committee, Scientific and Statistical Committee (SSC) and Scallop Oversight Committee in December, 2001 to consider actions affecting New England fisheries in the exclusive economic zone (EEZ). Recommendations from these groups will be brought to the full Council for formal consideration and action, if appropriate.

DATES: The meetings will be held between December 7-11, 2001. See SUPPLEMENTARY INFORMATION for specific dates and times.

ADDRESSES: The meetings will be held in Wakefield and Boston, MA. See SUPPLEMENTARY INFORMATION for specific locations.

Council address: New England Fishery Management Council, 50 Water Street, Mill 2, Newburyport, MA 01950.

FOR FURTHER INFORMATION CONTACT: Paul J. Howard, Executive Director, New England Fishery Management Council (978) 465-0492.

SUPPLEMENTARY INFORMATION:

Meeting Dates and Agendas

Friday, December 7, 2001, 9:30 a.m. - Research Steering Committee Meeting.

Location: Sheraton Colonial, One Audubon Road, Wakefield, MA 01880; telephone: (781) 245-9300.

The Council’s Research Steering Committee plans to review its roles and responsibilities with respect to its relationship to the Council and NMFS. Further discussion about coordination of previously funded projects is scheduled. The committee also will review the impact of the experimental/exempted fishing permit program on collaborative research; and if time permits there will be a discussion of a 2002 Request for Proposals relative to the Northeast groundfish resource.

Friday, December 7, 2001, 9:30 a.m. - Scientific and Statistical Committee Meeting.

Location: Holiday Inn, Boston Logan Airport, 225 McClellan Highway, Boston, MA 02128; telephone: (617) 569-5250.

The SSC will discuss several issues raised with respect to the Consensus Summary of Assessments of the 33rd Northeast Stock Assessment Workshop and provide guidance to the Council. The Stock Assessment Workshop estimated biomass reference points associated with Maximum Sustainable Yield for Gulf of Maine cod, using an age structured model and assumptions about the relationship between spawning stock and recruitment. The new estimates also included discards and recreational catch. The SSC will consider the stock-recruitment relationship used by the Stock Assessment Review Committee (SARC), the contribution of several factors to the large change in the biomass target and whether a biomass target based on spawning stock biomass (SSBMSY) is more robust. The SSC also will consider the basis for the SARC’s determination that the stock was overfished and that overfishing was occurring. Finally the SSC will consider (1) whether the assessment included all sources of significant catch to estimate mortality and stock size; (2) what was the contribution of discards and recreational catch; (3) were there sufficient reasons for not estimating these sources of mortality. With respect to the redfish assessment the SSC will consider whether there is sufficient rationale for using mortality threshold more conservative than F0.1 and whether adopting a new proxy for FMSY implies a new BMSY proxy. With respect to the white hake assessment, the SSC will consider whether trends in abundance and exploitation of fish larger than 60 cm adequately characterize the stock condition, whether the assessment accounted for sources of removals other than fishing, and why the abundance of fish less than 60 cm increased, while the abundance of fish greater than 60 cm decreased over the assessment.

Monday, December 10, 2001 at 9:30 a.m. and Tuesday, December 11, 2001 at 8:30 a.m. - Scallop Oversight Committee Meeting.

Location: Holiday Inn, Boston Logan Airport, 225 McClellan Highway, Boston, MA 02128; telephone: (617) 569-5250.

The Oversight Committee will continue development of management alternatives for Draft Amendment 10 to the Sea Scallop Fishery Management Plan (FMP). The committee discussion will focus on measures (bycatch Total Allowable Catch (TACs), gear modifications, etc.) to reduce bycatch and habitat impacts, a potential bag tag system to monitor landings, measures to manage scallop fishing by vessels with General Category permits, a 12-day maximum trip length proposal, a minimum 120-day allocation principal, restrictions on future use of unused day-at-sea allocations and Confirmation of Permit Histories, and hardship exemptions for carrying forward day-at-sea allocations. The Oversight Committee will also hold a closed session to review Advisory Committee applications and recommend appointments to new terms. Other issues and measures associated with Amendment 10 may also be developed.

Although non-emergency issues not contained in this agenda may come before this group for discussion, those issues may not be the subject of formal action during this meeting. Action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: November 15, 2001.
Richard W. Surdi,
Acting Director, Office of Sustainable Fisheries, National Marine Fisheries Service.

[FR Doc. 01-29162 Filed 11-20-01; 8:45 am]

BILLING CODE 3510-22-S